DEPARTMENT OF DEFENSE

Department of the Army

Availability for Non-Exclusive, Exclusive, or Partially Exclusive Licensing of U.S. Patent Application Concerning Easy Access Dental Field Operating and Treatment System Having Over-the-Patient Delivery

Correction

In notice document 02-23849 appearing on page 59271 in the issue of Friday, September 20, 2002 make the following correction:

On page 59271, in the third column, under the heading SUMMARY:, in the ninth line, “IPCT/US02/01283)” should read “(PCT/US02/01283)”.

[FR Doc. C2-23849 Filed 10-3-02; 8:45 am]

BILLING CODE 1505-01-D

SMALL BUSINESS ADMINISTRATION

13 CFR Part 121

RIN 3245-AF00

Small Business Size Standards; Adoption of Size Standards by 2002 North American Industry Classification System for Size Standards

Correction

In rule document 02-22200 beginning on page 56905 in the issue of Friday, September 6, 2002, make the following corrections:

§121.201 [Corrected]

1. On page 56908, in §121.201, in the table, in Subsector 221-Utilities, the entry for NAICS code 22121 is corrected as set forth below:

2. On page 56924, in the same section, in the same table, in Subsector 562-Waste Management and Remediation Services, the entryfor EXCEPT, is corrected as set forth below:

Small Business Size Standards by NAICS Industry-Continued
NAICS codes | NAICS U.S. industry title | Size standards in millions of dollars | Size standards in number of employees
Sector 22—Utilities
Subsector 221—Utilities
221121 | Electric Bulk Power Transmission and Control | See footnote 1 |
* * * * *
Subsector 562—Waste Management and Remediation Services
EXCEPT, | Environmental Remediation Services¹⁴ |  | 500¹⁴

[FR Doc. C2-22200 Filed 10-3-02; 8:45 am]

BILLING CODE 1505-01-P